FEDERAL COMMUNICATIONS COMMISSION

47 CFR Part 54

[WC Docket Nos. 13-184 and 10-90; Report No. 3017]

Petitions for Reconsideration of Action in Rulemaking Proceeding

AGENCY: Federal Communications Commission.

ACTION: Petition for reconsideration.

SUMMARY: Petitions for Reconsideration (Petitions) have been filed in the Commission's Rulemaking proceeding by Charles F. Hobbs, on behalf of AdTec, Inc.; Jennifer Hightower, et al., on behalf of Cox Communications, Inc.; Kathleen O'Brien Ham, et al., on behalf of T-Mobile USA, Inc.; and Derrick B. Owens, et al., on behalf of WTA—Advocates for Rural Broadband, et al.

DATES: Oppositions to the Petitions must be filed on or before April 29, 2015. Replies to an opposition must be filed on or before May 11, 2015.

ADDRESSES: Federal Communications Commission, 445 12th Street SW., Washington, DC 20554.

FOR FURTHER INFORMATION CONTACT: Bryan P. Boyle, Telecommunications Access Policy Division, Wireline Competition Bureau, (202) 418-7924, email: Bryan.Boyle@fcc.gov, TTY (202) 418-0484.

SUPPLEMENTARY INFORMATION: This is a summary of Commission's document, Report No. 3017, released April 8, 2015. The full text of Report No. 3017 is available for viewing and copying in Room CY-B402, 445 12th Street SW., Washington, DC or may be accessed online via the Commission's Electronic Comment Filing System at http://apps.fcc.gov/ecfs/. The Commission will not send a copy of this Notice pursuant to the Congressional Review Act, 5 U.S.C. 801(a)(1)(A) because this notice does not have an impact on any rules of particular applicability.

Subject: Modernization of the Schools and Libraries “E-Rate” Program, published at 80 FR 5961, February 4, 2015, in WC Docket Nos. 13-184 and 10-90, and published pursuant to 47 CFR 1.429(e). See also § 1.4(b)(1) of the Commission's rules.

Number of Petitions Filed: 4.

Federal Communications Commission.
Marlene H. Dortch,
Secretary.

[FR Doc. 2015-08510 Filed 4-13-15; 8:45 am]

BILLING CODE 6712-01-P